DEPARTMENT OF COMMERCE

National Oceanic and Atmospheric Administration

Establishing an Advisory Council Pursuant to the National Marine Sanctuaries Act and Solicitation for Applications for the Proposed Hudson Canyon National Marine Sanctuary Advisory Council

AGENCY: Office of National Marine Sanctuaries (ONMS), National Ocean Service (NOS), National Oceanic and Atmospheric Administration (NOAA), Department of Commerce (DOC).

ACTION: Notice of solicitation.

SUMMARY: Notice is hereby given that NOAA is establishing a sanctuary advisory council (council) for the proposed Hudson Canyon National Marine Sanctuary to provide advice and recommendations to ONMS regarding the sanctuary's designation. With this notice, ONMS is soliciting applications for seats on the council. ONMS will add this new council to the list of established national marine sanctuary advisory councils.

DATES: Applications for membership on the proposed Hudson Canyon National Marine Sanctuary Advisory Council must be emailed or postmarked by January 31, 2023.

ADDRESSES: For application submission or further information contact: Ellen Brody, NOAA Office of National Marine Sanctuaries, 4840 South State Road, Ann Arbor, MI 48108, phone: (734) 276-6387, email Ellen.Brody@noaa.gov.

SUPPLEMENTARY INFORMATION:

I. Background

Section 315 of the National Marine Sanctuaries Act (NMSA) (16 U.S.C. 1445a) authorizes the Secretary of Commerce to establish advisory councils to advise and make recommendations regarding the designation and management of national marine sanctuaries. ONMS is establishing a new sanctuary advisory council for the proposed Hudson Canyon National Marine Sanctuary to serve as a liaison to the local community and provide guidance and advice to ONMS during its designation. ONMS is adding this new advisory council to the list of councils with open vacancies and announcing that it is soliciting applications to fill the council's seats. Applications are due January 31, 2023.

II. Office of National Marine Sanctuaries (ONMS)

ONMS serves as the trustee for a network of underwater parks encompassing more than 620,000 square miles of marine and Great Lakes waters from Washington State to the Florida Keys, and from Lake Huron to American Samoa. The network includes a system of 15 national marine sanctuaries and the Papahānaumokuākea and Rose Atoll marine national monuments. National marine sanctuaries protect our nation's most vital coastal and marine natural and cultural resources and, through a diverse set of management tools, sustain nationally significant marine and Great Lakes environments that are the foundation for thriving communities and stable economies.

One of the many ways ONMS ensures public participation in the designation and management of national marine sanctuaries is through the formation of advisory councils. Advisory councils are community-based groups established to provide advice and recommendations to ONMS on issues including management, science, service, and stewardship, as well as to serve as liaisons between their constituents in the community and the sanctuary. Pursuant to Section 315(a) of the NMSA, advisory councils are exempt from the requirements of the Federal Advisory Committee Act. Additional information on ONMS and its advisory councils can be found at https://sanctuaries.noaa.gov.

III. Advisory Council Membership

Under Section 315 of the NMSA, the advisory council shall consist of no more than 15 voting members. Members shall be selected by the director from groups representing the diverse perspectives surrounding sanctuary resources, including Federal, State, or local agency employees with expertise in natural resources management; local user-group representatives; conservation and other public interest organizations; scientific and educational organizations; and members of the public interested in the protection and multiple-use management of sanctuary resources. 16 U.S.C. 1455a(b).

The charter for each advisory council defines the number and type of seats and positions on the council. The advisory council charter for the proposed Hudson Canyon National Marine Sanctuary identifies the following voting non-governmental seat types: commercial fishing; recreational fishing; tourism/recreation; conservation; research; business/maritime industry; education/outreach; and citizen at-large. The council will also have non-voting seats for government agencies. Recognizing the cultural significance of this area to Indigenous Nations and Tribes, NOAA welcomes the participation of such interested Nations and Tribes on the council. This could involve multiple Nations and Tribes. Nations and Tribes interested in participating in the advisory council should contact the NOAA representative identified in the ADDRESSES section. Participation on the council does not take the place of government-to-government consultation nor does it serve as the only opportunity for engagement between NOAA and Indigenous Nations and Tribes.

Applicants are chosen based upon their particular expertise and experience in relation to the seat for which they are applying; community and professional affiliations; views regarding the protection and management of marine or Great Lakes resources; and possibly the length of residence in the area affected by the site. Council members and alternates for the proposed Hudson Canyon National Marine Sanctuary Advisory Council serve three-year terms, as reflected in the signed charter.

For more information about the new advisory council for the proposed Hudson Canyon National Marine Sanctuary, including seat descriptions and application materials and instructions, please visit https://sanctuaries.noaa.gov/hudson-canyon/. More information on advisory council membership and processes, and materials related to the purpose, policies, and operational requirements for advisory councils can be found in the charter for a particular advisory council (https://sanctuaries.noaa.gov/management/ac/council_charters.html) and the National Marine Sanctuary Advisory Council Implementation Handbook (https://sanctuaries.noaa.gov/media/docs/2022-sanctuary-advisory-council-handbook.pdf).

B. Paperwork Reduction Act

ONMS has a valid Office of Management and Budget (OMB) control number (0648-0397) for the collection of public information related to the processing of ONMS national marine sanctuary advisory council applications across the National Marine Sanctuary System. Establishing a sanctuary advisory council for the proposed Hudson Canyon National Marine Sanctuary fits within the estimated reporting burden under that control number. See https://www.reginfo.gov/public/do/PRASearch (Enter Control Number 0648-0397). Therefore, ONMS will not request an update to the reporting burden certified for OMB control number 0648-0397.

Send comments regarding this burden estimate, or any other aspect of this data collection, including suggestions for reducing the burden, to: Office of National Marine Sanctuaries, 1305 East-West Highway, Silver Spring, Maryland 20910.

Notwithstanding any other provisions of the law, no person is required to respond to, nor shall any person be subject to a penalty for failure to comply with a collection of information subject to the requirements of the Paperwork Reduction Act (PRA), 44 U.S.C. 3501 et seq., unless that collection of information displays a currently valid Office of Management and Budget (OMB) control number. The OMB control number is #0648-0397.

Authority: 16 U.S.C. 1431 et seq.

John Armor,
Director, Office of National Marine Sanctuaries, National Ocean Service, National Oceanic and Atmospheric Administration.

[FR Doc. 2022-27188 Filed 12-14-22; 8:45 am]

BILLING CODE 3510-NK-P